DEPARTMENT OF HOUSING AND URBAN DEVELOPMENT

[Docket No. FR-5700-FA-06]

Announcement of Funding Awards for the McKinney-Vento HMIS Technical Assistance, Fiscal Year 2013

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the McKinney-Vento HMIS Technical Assistance program for Fiscal Year 2013. This announcement contains the names of the awardees and amounts of the awards made available by HUD.

FOR FURTHER INFORMATION CONTACT: Julie Hovden, Director, Technical Assistance Division, Office of Community Planning and Development, 451 Seventh Street SW., Room 7218, Washington, DC 20410-7000; telephone (202) 402-4496 (this is not a toll-free number). Persons with speech or hearing impairments may access this telephone number via TTY by calling the toll-free Federal Information Relay Service during working hours at 800-877-8339. For general information on this and other HUD programs, visit the HUD Web site at http://www.hud.gov or OneCPD Resource Exchange at www.onecpd.info.

SUPPLEMENTARY INFORMATION: The Fiscal Year 2013 McKinney-Vento HMIS Technical Assistance program was designed to achieve the highest level of performance and results for the implementation of Homeless Management Information Systems in each Continuum of Care, including operation and management of the software, and data collection for Annual Performance Reports (APRs) and the Annual Homeless Assessment Report (AHAR). Information about HMIS is available at www.hud.gov and www.onecpd.info.

The competition was announced in the fiscal year (FY) 2013 McKinney-Vento HMIS Technical Assistance (HMIS-TA) NOFA published April 17, 2013 (FR-5700-N-06) and closed on May 21, 2013. The NOFA allowed for up to $6.8 million for technical. Applications were rated and selected for funding on the basis of selection criteria contained in the Notice. For the Fiscal Year 2013 competition, 5 awards totaling $6,633,858 were awarded to 5 distinct technical assistance providers nationwide.

In accordance with section 102(a)(4)(C) of the Department of Housing and Urban Development Reform Act of 1989 (103 Stat. 1987, 42 U.S.C. 3545), the Department is publishing the grantees and the amounts of the awards in Appendix A to this document.

Dated: October 28, 2013.
Clifford D. Taffet,
General Deputy Assistant Secretary for Community Planning and Development.

Fiscal Year 2013
[McKinney-Vento HMIS Technical Assistance and Research (HMIS-TA)]
Recipient | City | State | Amount
Abt Associates, Inc | Cambridge | MA | $2,633,858
American Institutes for Research | Washington | DC | 750,000
Cloudburst Group | Landover | MD | 1,750,000
ICF Incorporated, L.L.C | Fairfax | VA | 750,000
Training & Development Associates, Inc | Laurinburg | NC | 750,000
Total |  |  | 6,633,858

[FR Doc. 2013-26476 Filed 11-4-13; 8:45 am]

BILLING CODE 4210-67-P